DEPARTMENT OF HOMELAND SECURITY

Coast Guard

[USCG-2010-0489]

National Offshore Safety Advisory Committee

AGENCY: Coast Guard, DHS.

ACTION: Notice of open teleconference meeting.

SUMMARY: The National Offshore Safety Advisory Committee (NOSAC) will meet by teleconference to discuss items related to safety of operations and other matters affecting the oil and gas offshore industry. This meeting will be open to the public.

DATES: The teleconference meeting will take place on Wednesday, September 29, 2010, from 11 a.m. to 12:30 p.m. EST. This meeting may close early if all business is finished. Written material and requests to make oral presentations should reach the Coast Guard on or before September 10, 2010. Requests to have a copy of your material distributed to each member of the committee should reach the Coast Guard on or before September 10, 2010.

ADDRESSES: The Committee will meet, via telephone conference, on September 29, 2010. Public participation is welcome and members of the public wishing to participate may contact Commander P.W. Clark at 202-372-1410 for call-in information, or they may participate in person by coming to Room 5-1224, U.S. Coast Guard Headquarters Building, 2100 Second Street, SW., Washington, DC 20593. As there are a limited number of teleconference lines, public participation will be on a first come basis. Written comments should be sent to Commander P.W. Clark, Designated Federal Officer of NOSAC, Commandant (CG-5222), 2100 Second Street SW. Stop 7126, Washington, DC 20593-0001; or by fax to 202-372 1926, at least 10 days prior to the meeting. This notice will be available in our online docket, USCG-2010-0489, at http://www.regulations.gov.

FOR FURTHER INFORMATION CONTACT: Commander P.W. Clark, Designated Federal Officer of NOSAC, or Mr. Kevin Pekarek, Assistant Designated Federal Officer, telephone 202-372-1386, fax 202-372-1926.

SUPPLEMENTARY INFORMATION: Notice of this meeting is given under the Federal Advisory Committee Act (FACA), 5 U.S.C. App. (Pub. L. 92-463). NOSAC provides advice and makes recommendations to the Coast Guard on safety and other concerns affecting the offshore oil and gas industry and assists the Coast Guard in formulating U.S. positions for discussion and presentation at the International Maritime Organization (IMO).

Agenda of Meeting

The agenda for the September 29, 2010, Committee meeting is as follows:

(1) Roll call of committee members and the public participating in the teleconference.

(2) Approval of minutes from the July 1, 2010, meeting. Consideration and possible action on the Offshore Supply Vessels (OSV's) subcommittee's Report and submission to the committee, which will include a paper for IMO's Bulk Liquids and Gases (BLG) workgroup and recommendations regarding OSV's < 100 Gross Tons (GT) and Resolution A.673(16) The Guidelines for the Transport and Handling of Limited Amounts of Hazardous and Noxious Liquid Substances in Bulk on Offshore Support Vessels. Once the committee finalizes its report, it will be posted and available to the public within 30 days at the fido.gov Web site. Use “code 68” to identify NOSAC when accessing this material.

(1) Brief Updates to the committee on progress to date from ongoing subcommittees as follows:

(a) Diving Subcommittee.

(b) Marine Portable Quarters Subcommittee.

(5) Other matters submitted for the committee's attention.

(6) Period for Public Comment.

Procedural

This meeting is open to the public. Please note that the meeting may close early if all business is finished. At the Chair's discretion, members of the public may make oral presentations during the meeting concerning the matters being discussed. If you would like to make an oral presentation during the teleconference, please notify the DFO no later than September 10, 2010. Written material for distribution to Committee members should reach the Coast Guard no later than September 10, 2010.

Minutes

Minutes from the meeting will be available for the public review and copying 30 days following the teleconference meeting and can be accessed from the fido.gov Web site. Use “code 68” to identify NOSAC when accessing this material.

Information on Services for Individuals With Disabilities

For information on facilities or services for individuals with disabilities or to request special assistance at the meeting, contact Mr. Kevin Pekarek at 202-372-1386 as soon as possible.

Dated: July 27, 2010.
J.G. Lantz,
Director of Commercial Regulations and Standards.

[FR Doc. 2010-19324 Filed 8-4-10; 8:45 am]

BILLING CODE 9110-04-P